CORPORATION FOR NATIONAL AND COMMUNITY SERVICE

Proposed Information Collection; Comment Request

AGENCY: Corporation for National and Community Service.

ACTION: Notice.

SUMMARY: The Corporation for National and Community Service (CNCS), as part of its continuing effort to reduce paperwork and respondent burden, conducts a pre-clearance consultation program to provide the general public and federal agencies with an opportunity to comment on proposed and/or continuing collections of information in accordance with the Paperwork Reduction Act of 1995. This program helps to ensure that requested data can be provided in the desired format, reporting burden (time and financial resources) is minimized, collection instruments are clearly understood, and the impact of collection requirement on respondents can be properly assessed.

Currently, CNCS is soliciting comments concerning AmeriCorps Commission Support Application Instructions. State commissions will respond to the questions included in this ICR in order to apply for funding through these grants and to report on progress and performance measures.

Copies of the information collection request can be obtained by contacting the office listed in the addresses section of this notice.

DATES: Written comments must be submitted to the individual and office listed in the ADDRESSES section by May 22, 2017.

ADDRESSES: You may submit comments, identified by the title of the information collection activity, by any of the following methods:

(1) By mail sent to: Corporation for National and Community Service; Attention James Stone, Senior Program and Project Specialist, 250 E Street SW., Washington, DC 20525.

(2) By hand delivery or by courier to the CNCS mailroom at the mail address given in paragraph (1) above, between 9:00 a.m. and 4:00 p.m. Eastern Time Monday through Friday, except Federal holidays.

(3) Electronically through www.regulations.gov.

FOR FURTHER INFORMATION CONTACT: James Stone, (202) 606-6885, or by email at jstone@cns.gov.

SUPPLEMENTARY INFORMATION: CNCS is particularly interested in comments that:

• Evaluate whether the proposed collection of information is necessary for the proper performance of the functions of CNCS, including whether the information will have practical utility;

• Evaluate the accuracy of the agency's estimate of the burden of the proposed collection of information, including the validity of the methodology and assumptions used;

• Enhance the quality, utility, and clarity of the information to be collected; and

• Minimize the burden of the collection of information on those who are expected to respond, including the use of appropriate automated, electronic, mechanical, or other technological collection techniques or other forms of information technology (e.g., permitting electronic submissions of responses).

Background

These application instructions will be used by applicants for funding through AmeriCorps State and National Commission Support grants.

Current Action

CNCS seeks to renew its Commission Support Application Instructions with no changes. The Application Instructions will be used on an annual basis by State Service Commissions to report on progress and apply for funding. CNCS proposes to continue to use the currently cleared application until the renewal is approved by OMB.

Type of Review: Renewal.

Agency: Corporation for National and Community Service.

Title: AmeriCorps Commission Support Application Instructions.

OMB Number: 3045-0099.

Agency Number: None.

Affected Public: Nonprofit organizations, State, Local and Tribal.

Total Respondents: 52.

Frequency: Annually.

Average Time per Response: 37 hours.

Estimated Total Burden Hours: 1,924 hours.

Total Burden Cost (capital/startup): None.

Total Burden Cost (operating/maintenance): None.

Comments submitted in response to this notice will be summarized and/or included in the request for Office of Management and Budget approval of the information collection request; they will also become a matter of public record.

Dated: March 17, 2017.
James R. Stone,
Senior Program and Projects Specialist, AmeriCorps State and National.

[FR Doc. 2017-05816 Filed 3-22-17; 8:45 am]

BILLING CODE 6050-28-P